ENVIRONMENTAL PROTECTION AGENCY

[EPA-R09-OAR-2008-0399; FRL-8570-6]

Adequacy Status of Motor Vehicle Budgets in Submitted Eight-Hour Ozone Attainment Plan for the San Diego County Nonattainment Area for Transportation Conformity Purposes; California

AGENCY: Environmental Protection Agency (EPA).

ACTION: Notice of Adequacy.

SUMMARY: In this notice, EPA is notifying the public that the Agency has found that the motor vehicle emissions budgets in the submitted Eight-Hour Ozone Attainment Plan for San Diego County (May 2007) (“2007 San Diego Eight-Hour Ozone Plan”) are adequate for transportation conformity purposes. The 2007 San Diego Eight-Hour Ozone Plan was submitted to EPA on June 15, 2007 by the California Air Resources Board as a revision to the California state implementation plan. As a result of our finding, the San Diego Association of Governments (SANDAG) and the U.S. Department of Transportation must use the motor vehicle emissions budgets from the submitted eight-hour ozone attainment plan for future transportation conformity determinations.

DATES: This finding is effective June 9, 2008.

FOR FURTHER INFORMATION CONTACT: John J. Kelly, U.S. EPA, Region IX, Air Division AIR-2, 75 Hawthorne Street, San Francisco, CA 94105-3901; (415) 947-4151 or kelly.johnj@epa.gov.

SUPPLEMENTARY INFORMATION: Throughout this document, whenever “we,” “us,” or “our” is used, we mean EPA.

Today's notice is simply an announcement of a finding that we have already made. EPA Region IX sent a letter to the California Air Resources Board (ARB) on May 13, 2008 stating that the motor vehicle emissions budgets for volatile organic compounds (VOC) and oxides of nitrogen (NOX) in the submitted 2007 San Diego Eight-Hour Ozone Plan for 2008 are adequate. The budgets correspond to the San Diego County 8-hour ozone nonattainment area, which encompasses the entirety of the county, except for several excluded tribal areas in the southeastern portion of the county, in southwest California. Receipt of the 2007 San Diego Eight-Hour Ozone Plan and related motor vehicle emissions budgets was announced on EPA's transportation conformity Web site, and no comments were submitted. The finding is available at EPA's conformity Web site: http://www.epa.gov/otaq/stateresources/transconf/adequacy.htm.

The adequate motor vehicle emissions budgets for the San Diego County 8-hour ozone nonattainment area are provided in the following table:

Adequate Motor Vehicle Emissions Budgets
[Summer day, tons per day]
Budget year | VOC motor vehicle emissions budget | NOX motor vehicle emissions budget
2008 | 53 | 98

Transportation conformity is required by Clean Air Act section 176(c). EPA's conformity rule requires that transportation plans, programs, and projects conform to state air quality implementation plans (SIPs) and establishes the criteria and procedures for determining whether or not they do conform. Conformity to a SIP means that transportation activities will not produce new air quality violations, worsen existing violations, or delay timely attainment of the national ambient air quality standards.

The criteria by which we determine whether a SIP's motor vehicle emission budgets are adequate for conformity purposes are outlined in 40 CFR 93.118(e)(4). The process for determining the adequacy of such budgets is set forth at 40 CFR 93.118(f). Please note that an adequacy review is separate from EPA's completeness review, and should not be used to prejudge EPA's ultimate approval action for the SIP. Even if we find a budget adequate, the SIP could later be disapproved.

Authority: 42 U.S.C. 7401 et seq.

Dated: May 13, 2008.
Wayne Nastri,
Regional Administrator, Region IX.

[FR Doc. E8-11604 Filed 5-22-08; 8:45 am]

BILLING CODE 6560-50-P